DEPARTMENT OF EDUCATION

Extension of the Application Deadline Date; Applications for New Awards; Technical Assistance and Dissemination To Improve Services and Results for Children With Disabilities—National Center on Rigorous Comprehensive Education for Students With Disabilities

AGENCY: Office of Special Education and Rehabilitative Services, Department of Education.

ACTION: Notice.

SUMMARY: On February 22, 2024, the Department of Education (Department) published in the Federal Register a notice inviting applications (NIA) for the fiscal year (FY) 2024 Technical Assistance and Dissemination to Improve Services and Results for Children with Disabilities—National Center on Rigorous Comprehensive Education for Students with Disabilities, Assistance Listing Number 84.326C. The NIA established a deadline date of April 22, 2024, for the transmittal of applications. This notice extends the deadline date for transmittal of applications until April 25, 2024, and extends the deadline for intergovernmental review until June 24, 2024.

DATES:

Deadline for Transmittal of Applications: April 25, 2024.

Deadline for Intergovernmental Review: June 24, 2024.

FOR FURTHER INFORMATION CONTACT: David Emenheiser, U.S. Department of Education, 400 Maryland Avenue SW, Room 4A10, Washington, DC 20202. Telephone: (202) 987-0124. Email: David.Emenheiser@ed.gov.

If you are deaf, hard of hearing, or have a speech disability and wish to access telecommunications relay services, please dial 7-1-1.

SUPPLEMENTARY INFORMATION: On February 22, 2024, we published the NIA in the Federal Register (89 FR 13315). The NIA established a deadline date of April 22, 2024, for the transmittal of applications. We are extending the deadline date for transmittal of applications, because the Grants.gov platform will be closed for site maintenance from April 20-23, 2024. Since applicants will be unable to submit applications or work in the Grants.gov system during that time, we are extending the deadline to allow applicants additional time to complete and submit their applications. Applicants that have submitted applications before the original deadline date of April 22, 2024, may resubmit their applications on or before the new application deadline date of April 25, 2024, but are not required to do so. If a new application is not submitted, the Department will use the application that was submitted by the original deadline. If a new application is submitted, the Department will consider the application that was last successfully submitted and received by 11:59:59 p.m., eastern time, on April 25, 2024.

Note: All information in the NIA, including eligibility criteria, remains the same, except for the deadline for the transmittal of applications and the deadline for intergovernmental review. The NIA is available at www.federalregister.gov/documents/2024/02/22/2024-03595/applications-for-new-awards-technical-assistance-and-dissemination-to-improve-services-and-results.

Information about Technical Assistance and Dissemination to Improve Services and Results for Children with Disabilities is available on the Department's website at https://www2.ed.gov/programs/oseptad/index.html.

Program Authority: 20 U.S.C. 1463 and 1481.

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-06376 Filed 3-25-24; 8:45 am]

BILLING CODE 4000-01-P